DEPARTMENT OF ENERGY

Federal Energy Regulatory Commission

[Project No. 9202-179]

Upper Yampa Water Conservancy District; Notice of Application Accepted for Filing, Soliciting Comments, Motions To Intervene, and Protests

Take notice that the following hydroelectric application has been filed with the Commission and is available for public inspection:

a. Types of Application: Non-project use of project lands and waters.

b. Project No.: 9202-179.

c. Date Filed: January 22, 2013, and supplemented February 7, 2013.

d. Applicant: Upper Yampa Water Conservancy District.

e. Name of Project: Stagecoach Hydropower Project.

f. Location: Yampa River, in Routt County, Colorado.

g. Filed Pursuant to: Federal Power Act, 16 U.S.C. 791a-825r.

h. Applicant Contact: Mr. Kevin McBride, District Manager, Upper Yampa Water Conservancy District, 3310 Clear Water Trail, P.O. Box 775529, Steamboat Springs, CO 80477, (970) 871-1035.

i. FERC Contact: Mr. Mark Carter, (678) 245-3083, mark.carter@ferc.gov.

j. Deadline for filing comments, motions to intervene, and protests: 30 days from the issuance date of this notice by the Commission.

All documents may be filed electronically via the Internet. See, 18 CFR 385.2001(a)(1)(iii) and the instructions on the Commission's web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, or toll free at 1-866-208-3676, or for TTY, (202) 502-8659. Although the Commission strongly encourages electronic filing, documents may be paper-filed. To paper-file, mail an original and seven copies to: Secretary, Federal Energy Regulatory Commission, 888 First Street NE., Washington, DC 20426. Please include the project number (P-9202-179) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: The licensee proposes to allow commercial development of the site with a marina and restaurant operation that would have elements located both inside and outside the project boundary. The following facilities would be located within the project boundary: (1) Boat docks; (2) a sand beach area for swimming; (3) miscellaneous landscaping improvements, including an event lawn; and (4) four walkways to the proposed docks, swimming area, and event lawn. The proposed dock facilities would consist of two floating docks accommodating a maximum of 40 watercraft per dock, and each dock would be constructed in separate phases.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-9202) to access the document. You may also register online at http://www.ferc.gov/docs-filing/esubscription.asp to be notified via email of new filings and issuances related to this or other pending projects. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by a proof of service on all persons listed in the service list prepared by the Commission in this proceeding, in accordance with 18 CFR 385.2010.

Dated: February 19, 2013.
Kimberly D. Bose,
Secretary.

[FR Doc. 2013-04274 Filed 2-22-13; 8:45 am]

BILLING CODE 6717-01-P